OCCUPATIONAL SAFETY AND HEALTH REVIEW COMMISSION

Senior Executive Service Performance Review Board Membership

AGENCY: Occupational Safety and Health Review Commission.

ACTION: Annual notice.

SUMMARY: Notice is given of the appointment of members to the Performance Review Board (PRB) of the Occupational Safety and Health Review Commission.

DATES: Membership is effective on March 26, 2020.

FOR FURTHER INFORMATION CONTACT: Linda M. Beard, Human Resources Specialist, U.S. Occupational Safety and Health Review Commission, 1120 20th Street NW, Washington, DC 20036, (202) 606-5393.

SUPPLEMENTARY INFORMATION: The Review Commission, as required by 5 U.S.C. 4314(c)(1) through (5), has established a Senior Executive Service PRB. The PRB reviews and evaluates the initial appraisal of a senior executive's performance by the supervisor, and makes recommendations to the Chairman of the Review Commission regarding performance ratings, performance awards, and pay-for-performance adjustments. Members of the PRB serve for a period of 24 months. In the case of an appraisal of a career appointee, more than half of the members shall consist of career appointees, pursuant to 5 U.S.C. 4314(c)(5). The names and titles of the PRB members are as follows:

• Charlotte Dye, Deputy General Counsel, Office of General Counsel, Federal Labor Relations Authority;

• Gisile Goethe, Director, Office of Resource Management, Federal Retirement Thrift Investment Board;

• Kimberly Moseley, Executive Director, Federal Service Impasses Panel; and

• Christopher J. Roscetti, Technical Director at the Defense Nuclear Facilities Safety Board.

James J. Sullivan,
Chairman.

[FR Doc. 2020-06257 Filed 3-25-20; 8:45 am]

BILLING CODE 7600-01-P